DEPARTMENT OF ENERGY

Environmental Management Advisory Board Meeting

AGENCY: Department of Energy.

ACTION: Notice of open meeting.

SUMMARY: This notice announces a meeting of the Alternative Technologies to Incineration Committee (ATIC) of the Environmental Management Advisory Board (EMAB). The EMAB is a Federal Advisory Committee Act (FACA) entity.

DATES: Wednesday, February 20, 2002 and Thursday, February 21, 2002.

ADDRESSES: U.S. Department of Energy, Forrestal Building, 1000 Independence Avenue, SW., (Room 6E-069), Washington, DC 20585.

FOR FURTHER INFORMATION CONTACT: James T. Melillo, Executive Director of the Environmental Management Advisory Board, (EM-10), 1000 Independence Avenue SW., (Room 5B-171), Washington, DC 20585. The telephone number is 202-586-4400. The Internet address is james.melillo@em.doe.gov.

SUPPLEMENTARY INFORMATION: The Purpose of the Board: To provide the Assistant Secretary for Environmental Management (EM) with information and advice on corporate issues. It recommends options to resolve difficult issues faced in the Environmental Management Program including: Public and worker health and safety, integration and disposition of waste, regulatory agreements, roles and authorities, risk assessment and cost-benefit analyses, program performance and functionality, and science requirements and applications. The ATIC will examine emerging candidate technologies identified by the Department for treatment for disposal of mixed transuranic (TRU) and low-level wastes previously scheduled for incineration at the Idaho National Engineering and Environmental Laboratory (INEEL). The Department is identifying these technologies through implementation of its technology Research Development Deployment & Demonstration (RDD&D) plan. The ATIC will facilitate stakeholder comment and communications on issues related to emerging alternative technologies to incineration for the treatment of mixed TRU and low-level wastes.

Tentative Agenda:

Wednesday, February 20, 2002.

8:30 a.m.—Welcome and Introductions

—Introductory Comments

—Approval of Minutes from 6/13/01 Meeting

—Remarks

—The EM-50 Science and Technology Work Plan Initiatives

—Status of Development Efforts for Technologies Identified by the Blue Ribbon Panel

—Regulatory Initiatives for Waste Isolation Pilot Plant (WIPP)

—Public Comment Period

5:00 p.m.

—Summary and Closing Comments

Thursday, February 21, 2002.

8:30 a.m.

—Introductory Comments

—The Stakeholder Forum

—Q&A Session and Summary Comments

—Committee Work Session

—Public Comment Period

4 p.m.-Adjournment

Public Participation: This meeting is open to the public. If you would like to file a written statement with the Committee you may do so either before or after the meeting. If you would like to make an oral statement regarding any of the items on the agenda, please contact Mr. Melillo at the address and telephone number listed above, or call the Environmental Management Advisory Board office at 202-586-4400, and we will reserve time for you on the agenda. You may also register to speak at the meeting on February 20-21, 2002, or ask to speak during the public comment period. Those who call in and or register in advance will be given the opportunity to speak first. Others will be accommodated as time permits. The Committee Co-Chairs will conduct the meeting in an orderly manner. This notice is being published less than 15 days before the date of the meeting due to the late resolution of programmatic issues.

Minutes: We will make the minutes of the meeting available for public review and copying by April 20, 2002. The minutes and transcript of the meeting will be available for viewing at the Freedom of Information Public Reading Room (1E-190) in the Forrestal Building, U.S. Department of Energy, 1000 Independence Avenue, SW., Washington, DC 20585. The room is open Monday through Friday from 9 a.m.-4 p.m. except on Federal holidays.

Issued in Washington, DC on February 4, 2002.
Rachel Samuel,
Deputy Advisory Committee Management Officer.

[FR Doc. 02-2970 Filed 2-6-02; 8:45 am]

BILLING CODE 6450-01-P